DEPARTMENT OF TRANSPORTATION

Federal Aviation Administration

Public Notice for Waiver of Aeronautical Land-Use Assurance; Faribault Municipal Airport; Faribault Minnesota

AGENCY: Federal Aviation Administration, DOT.

ACTION: Notice of intent of waiver with respect to land.

SUMMARY: The Federal Aviation Administration (FAA) is considering a proposal to authorize the release of a portion of the airport property. The City of Faribault, MN is proposing to release for sale 29.72 acres of existing airport land for the development of an Army Reserve and Minnesota National Guard Readiness Center. The acreage being released is not needed for aeronautical use as currently identified on the Airport Layout Plan.

The acreage comprising this parcel was originally acquired with local funds in 1944 and 1945. The City of Faribault (Minnesota), as airport owner, has concluded that the subject airport is not needed for expansion of airport facilities. There are no impacts to the airport by allowing the airport to dispose of the property. The appraised value is $830,000 and the Airport will receive that amount. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before April 20, 2006.

FOR FURTHER INFORMATION CONTACT: Ms. Sandra E. DePottey, Program Manager, Federal Aviation Administration, Airports, District Office, 6020 28th Avenue South, Room 102, Minneapolis, MN 55450-2706. Telephone Number (612) 713-4350/FAX Number (612) 713-4364. Documents reflecting this FAA action may be reviewed at this same location or at the Faribault City Hall Airport, 208 First Avenue, NW., Faribault, MN 55021.

SUPPLEMENTARY INFORMATION: Following is a legal description of the subject airport property to be released at Faribault Municipal Airport in Faribault, MN and described as follows:

All that part of the N½ NE¼ Section 23-T110N-R21W, Rice County Minnesota; described as follows: Commencing at the southwest corner of the N½ NE¼ of said Section 23; thence North 89°35′43″ East a distance of 1843.30 feet, on the south line of said N½ NE¼; thence North 52°47′17″ West a distance of 2181.22 feet, to a point on the north line of the NE¼ of said Section 23; thence south 89°16′25″ West a distance of 101.83 feet, on north line of said NE¼, to the northwest corner of said NE¼; thence south 00°11′07″ west a distance of 1330.86 feet, on the west line of said NE¼ to the point of beginning.

Said parcel subject to all easements, restrictions, and reservations of record.

Issued in Minneapolis, MN on February 23, 2006.
Robert A. Huber,
Acting Manager, Minneapolis Airports District Office, FAA, Great Lakes Region.

[FR Doc. 06-2665 Filed 3-20-06; 8:45 am]

BILLING CODE 4910-13-M